DEPARTMENT OF COMMERCE

International Trade Administration

Environmental Technologies Trade Advisory Committee Public Meeting

AGENCY: International Trade Administration, DOC.

ACTION: Notice of Federal advisory committee meeting.

SUMMARY: This notice sets forth the schedule and proposed agenda of a meeting of the Environmental Technologies Trade Advisory Committee (ETTAC).

DATES: The meeting is scheduled for Thursday, January 26, 2012, at 9 a.m. Eastern Daylight Time (EDT).

ADDRESSES: The meeting will be held in Room 3407 at the U.S. Department of Commerce, Herbert Clark Hoover Building, 1401 Constitution Avenue NW., Washington, DC 20230.

FOR FURTHER INFORMATION CONTACT: Mr. Todd DeLelle, Office of Energy & Environmental Industries (OEEI), International Trade Administration, Room 4053, 1401 Constitution Avenue NW., Washington, DC 20230. (Phone: (202) 482-4877; Fax: (202) 482-5665; email: todd.delelle@trade.gov). This meeting is physically accessible to people with disabilities. Requests for sign language interpretation or other auxiliary aids should be directed to OEEI at (202) 482-5225 no less than one week prior to the meeting.

SUPPLEMENTARY INFORMATION: The meeting will take place from 9 a.m. to 3:30 p.m. This meeting is open to the public and time will be permitted for public comment from 3:00-3:30 p.m. Written comments concerning ETTAC affairs are welcome any time before or after the meeting. Minutes will be available within 30 days of this meeting.

Topics to be considered: The agenda for the January 26, 2012 ETTAC meeting will be set by the recent activities of the group's four subcommittees: Trade Promotion Subcommittee; Trade Liberalization Subcommittee; Standards, Regulations, and Certification Subcommittee; and Innovation Subcommittee. Each group will provide an overview of the issues on which they have been gathering information since the previous quarterly ETTAC meeting. The full ETTAC will discuss those issues further and begin to develop related policy recommendations.

Background: The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC). ETTAC was originally chartered in May of 1994. It was most recently re-chartered until October 2012.

Edward A. O'Malley,
Director, Office of Energy and Environmental Industries.

[FR Doc. 2011-32101 Filed 12-13-11; 8:45 am]

BILLING CODE 3510-DR-P